DEPARTMENT OF HOMELAND SECURITY

Coast Guard

33 CFR Part 117

[USCG-2008-0339]

Drawbridge Operation Regulation; Illinois Waterway, Lockport, IL; Repair and Maintenance

AGENCY: Coast Guard, DHS.

ACTION: Notice of temporary deviation from regulations.

SUMMARY: The Commander, Eighth Coast Guard District has issued a temporary deviation from the regulation governing the operation of the Elgin, Joliet, and Eastern Railroad Drawbridge, across the Illinois Waterway, Mile 290.1, at Lockport, Illinois. The deviation is necessary for the bridge to remain closed-to-navigation unless 1 hour advance notice is given. This deviation allows the bridge owner time to perform necessary repairs to the bridge.

DATES: This deviation is effective from 7 a.m. to 5 p.m., May 20, 2008, through June 2, 2008.

ADDRESSES: Documents indicated in this preamble as being available in the docket are part of docket USCG-2008-0339 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Robert A. Young Federal Building, Room 2.107F, 1222 Spruce Street, St. Louis, MO 63103-2832, between 8 a.m. and 4 p.m., Monday through Friday, except Federal holidays.

FOR FURTHER INFORMATION CONTACT: Roger K. Wiebusch, Bridge Administrator, (314) 269-2378.

SUPPLEMENTARY INFORMATION: The Elgin, Joliet, and Eastern Railway requested a temporary deviation for the Elgin, Joliet, and Eastern Railroad Drawbridge, mile 290.1, at Lockport, Illinois across the Illinois Waterway to perform needed maintenance and repairs. The Elgin, Joliet, and Eastern Railroad Drawbridge currently operates in accordance with 33 CFR 117.393(d), which states the bridge is remotely operated and normally maintained in the open-to-navigation position, closing only to pass rail traffic and then reopening promptly for navigation. In order to facilitate the needed maintenance and repairs, the drawbridge must be kept in the closed-to-navigation position. This deviation allows for the bridge to remain closed-to-navigation unless 1 hour advance notice is given, from 7 a.m. to 5 p.m., May 20, 2008, through June 2, 2008.

There are no alternate routes for vessels transiting this section of the Illinois Waterway.

The Elgin, Joliet, and Eastern Railroad Drawbridge, in the closed-to-navigation position, provides a vertical clearance of 24.6 feet above pool stage. Navigation on the waterway consists primarily of commercial tows and recreational watercraft. This temporary deviation has been coordinated with waterway users. No objections were received.

In accordance with 33 CFR 117.35(e), the drawbridge must return to its regular operating schedule immediately at the end of the designated time period. This deviation from the operating regulations is authorized under 33 CFR 117.35.

Dated: May 5, 2008.
Roger K. Wiebusch,
Bridge Administrator.

[FR Doc. E8-11441 Filed 5-21-08; 8:45 am]

BILLING CODE 4910-15-P